DEPARTMENT OF COMMERCE

National Oceanic and Atmospheric Administration

[RTID 0648-XF269]

Gulf Fishery Management Council; Public Meeting

AGENCY: National Marine Fisheries Service (NMFS), National Oceanic and Atmospheric Administration (NOAA), Commerce.

ACTION: Notice of a public meeting.

SUMMARY: The Gulf Fishery Management Council will hold a meeting of its Law Enforcement Technical Committee (LETC), in conjunction with the Gulf States Marine Fisheries Commission's Law Enforcement Committee (LEC).

DATES: The meeting will convene on Wednesday, October 29, 2025; beginning at 7:30 a.m.-12 p.m., CDT. The Committees will be in a closed session from 7:30 a.m. until 8:15 a.m. CDT.

ADDRESSES: The meeting will be held at Golden Nugget Biloxi Hotel & Casino, located at 151 Beach Blvd.; (228) 435-5400. Please visit the Gulf Council website (www.gulfcouncil.org) for agenda and meeting materials information.

Council address: Gulf Fishery Management Council, 4107 W Spruce Street, Suite 200, Tampa, FL 33607; telephone: (813) 348-1630.

FOR FURTHER INFORMATION CONTACT: Dr. Assane Diagne, Economist, Gulf Fishery Management Council; Assane.diagne@gulfcouncil.org, telephone: (813) 348-1630, and Mr. Steve VanderKooy, Inter-jurisdictional Fisheries (IJF) Coordinator, Gulf States Marine Fisheries Commission; svanderkooy@gsmfc.org, telephone: (228) 875-5912.

SUPPLEMENTARY INFORMATION: The following items of discussion are on the agenda, though agenda items may be addressed out of order and any changes will be noted on the Council's website when possible.

Joint Gulf Council's Law Enforcement Technical Committee (LETC) and Gulf States Marine Fisheries Commission's Law Enforcement Committee (LEC) Meeting Agenda, Wednesday, October 29, 2025; beginning at 8:30 a.m.-12 p.m., CDT.

The joint meeting will begin in a closed session from 7:30 a.m.-8:15 a.m., CDT with introductions, case work discussions and any other business.

General session will begin at approximately 8:30 a.m., CDT with introductions and adoption of agenda, and approval of minutes from the Joint LEC/LETC meeting from October 2023.

The Gulf Council LETC will hold a review and discuss additional Tier of ID Number Size for Federally permitted Vessels between 25 and 65 ft., receive an update on 20-fathom boundary line and State waters boundary lines, and Nomination Process for Officer/Team of the Year.

The GSMFC LEC will review and discuss Future Joint OLE/Enforcement JEA Meetings and GSMFC/ASMFC Joint LE Committees Meetings, the IJF Program Activity for Gray (Mangrove) Snapper Profile Status, Black Drum Profile and Commission Pubs.

The committee will present the State Report Highlights from Florida, Alabama, Mississippi, Louisiana, Texas, USCG, NOAA OLE, and USFWS; and will discuss any Other Business items.

Meeting Adjourns

The agenda is subject to change, and the latest version along with other meeting materials will be posted on www.gulfcouncil.org.

The Law Enforcement Technical Committee consists of principal law enforcement officers in each of the Gulf States, as well as the NOAA Office of Law Enforcement, U.S. Fish and Wildlife Service, the U.S. Coast Guard, and the NOAA Office of General Counsel for Law Enforcement.

Although other non-emergency issues not on the agenda may come before this group for discussion, in accordance with the Magnuson-Stevens Fishery Conservation and Management Act, those issues may not be the subject of formal action during this meeting. Actions will be restricted to those issues specifically identified in the agenda and any issues arising after publication of this notice that require emergency action under Section 305(c) of the Magnuson-Stevens Fishery Conservation and Management Act, provided the public has been notified of the Council's intent to take action to address the emergency.

(Authority: 16 U.S.C. 1801 et seq.)

Dated: September 29, 2025.
Becky J. Curtis,
Acting Deputy Director, Office of Sustainable Fisheries, National Marine Fisheries Service.

[FR Doc. 2025-19367 Filed 10-1-25; 8:45 am]

BILLING CODE 3510-22-P